DEPARTMENT OF THE INTERIOR

National Park Service

[2253-665]

Notice of Intent To Repatriate Cultural Items: Thomas Burke Memorial Washington State Museum, University of Washington, Seattle, WA

AGENCY: National Park Service, Interior.

ACTION: Notice.

SUMMARY: The Thomas Burke Memorial Washington State Museum (Burke Museum), in consultation with the appropriate Indian Tribes, has determined that the cultural items meet the definition of unassociated funerary objects and repatriation to the Indian Tribes stated below may occur if no additional claimants come forward. Representatives of any Indian Tribe that believes itself to be culturally affiliated with the cultural items may contact the Burke Museum.

DATES: Representatives of any Indian Tribe that believes it has a cultural affiliation with the cultural items should contact the Burke Museum at the address below by October 19, 2011.

ADDRESSES: Peter Lape, Burke Museum, University of Washington, Box 353010, Seattle, WA 98195-3010, telephone (206) 685-3849.

SUPPLEMENTARY INFORMATION: Notice is here given in accordance with the Native American Graves Protection and Repatriation Act (NAGPRA), 25 U.S.C. 3005, of the intent to repatriate cultural items in the possession of the Burke Museum, University of Washington, Seattle, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1953-1954, human remains were removed from the Cedar Cave Site (45-KT-20), in Kittitas County, WA, during a University of Washington Field Expedition led by Dr. Earl Swanson, Jr. The human remains and objects were transferred from the University of Washington, Department of Anthropology and accessioned by the Burke Museum in 1966 (Burke Accn. #1966-95). In 1974, the Burke Museum legally transferred portions of the human remains to Central Washington University. In 2007, a Notice of Inventory Completion (NIC) describing 4 individuals and 42 associated funerary objects removed from the Cedar Cave site was published in the Federal Register [72 FR 52391-52392, September 13, 2007]. The Burke Museum and Central Washington University have jointly repatriated all human remains and funerary objects from the Cedar Cave site described in the NIC. At that time, one object, the burial bundle, was believed to have been missing, but has subsequently been identified during a collection cataloging and re-housing project. Also at that time, a projectile point and two shell beads were not designated as associated funerary objects, but based on the available provenience information and their proximity to the burial, are now determined to have been intentionally placed with the human remains. Therefore, the four (now unassociated) funerary objects are one burial bundle, one projectile point, and two shell beads.

Early and late published ethnographic documentation indicates that the Cedar Cave Site is in the aboriginal territory of the Moses-Columbia or Sinkiuse, and the Yakima (Daugherty 1973, Miller 1998, Mooney 1896, Ray 1936, Spier 1936) whose descendents are represented today by the Confederated Tribes of the Colville Reservation, Washington, and the Confederated Tribes and Bands of the Yakama Nation, Washington. Furthermore, information provided during consultation indicates that the aboriginal ancestors occupying this area were highly mobile and traveled the landscape for gathering resources as well as trade. Descendents of these Plateau communities are now widely dispersed and enrolled in the two Tribes mentioned, as well as the Nez Perce Tribe, Idaho; Confederated Tribes of the Umatilla Indian Reservation, Oregon; Confederated Tribes of the Warm Springs Reservation of Oregon; and the Wanapum Band, a non-Federally recognized Indian group. Museum documentation indicates that the cultural items were found in connection with the human remains. The cultural items are consistent with cultural items typically found in context with burials in eastern Washington.

Determinations Made by the Burke Museum

Officials of the Burke Museum have determined that:

• Pursuant to 25 U.S.C. 3001(3)(B), the four cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho, as well as the Wanapum Band, a non-Federally recognized Indian group.

Additional Requestors and Disposition

Representatives of any other Indian Tribe that believes itself to be culturally affiliated with the unassociated funerary objects should contact Peter Lape, Burke Museum, University of Washington, Box 35101, Seattle, WA 98195, telephone (206) 685-3849, before October 19, 2011. Repatriation of the unassociated funerary objects to the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho, as well as the Wanapum Band, a non-Federally recognized Indian group, may proceed after that date if no additional claimants come forward.

The Burke Museum is responsible for notifying the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group, that this notice has been published.

Dated: September 13, 2011.
Sherry Hutt,
Manager, National NAGPRA Program.

[FR Doc. 2011-23899 Filed 9-16-11; 8:45 am]

BILLING CODE 4312-50-P